DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, October 1, 2013, 8:00 a.m. to October 2, 2013, 5:00 p.m., the Melrose Hotel, 2430 Pennsylvania Avenue, Washington, DC 20037 which was published in the Federal Register on September 9, 2013, 78 FR 55088.

This meeting will be held on November 10, 2013 from 1:00 p.m. until 4:00 p.m. and November 11, 2013 from 9:00 a.m. until 3:00 p.m. This meeting is now a Telephone Conference Call. The meeting is closed to the public.

Dated: October 25, 2013.
David Clary,
Program Analyst, Office of Federal Advisory Committee Policy.

[FR Doc. 2013-25877 Filed 10-30-13; 8:45 am]

BILLING CODE 4140-01-P